NUCLEAR REGULATORY COMMISSION

Advisory Committee on Reactor Safeguards (ACRS)Subcommittee Meeting on Thermal-Hydraulic Phenomena; Notice of Meeting

The ACRS Subcommittee on Thermal-Hydraulic Phenomena will hold a meeting on September 23, 2008, at 11545 Rockville Pike, Rockville, Maryland, Room T-2B1.

The meeting will be open to public attendance. The agenda for the subject meeting shall be as follows:

Tuesday, September 23, 2008—8:30 a.m. until 5 p.m.

The Subcommittee will discuss the NRC staff's progress on resolving Generic Safety Issue-191, “Assessment of Debris Accumulation on PWR Sump Performance.” The Subcommittee will hear presentations by and hold discussions with representatives of the NRC staff, consultants to the staff, industry representatives and other interested persons regarding this matter. The Subcommittee will gather information, analyze relevant issues and facts, and formulate proposed positions and actions, as appropriate, for deliberation by the full Committee.

Members of the public desiring to provide oral statements and/or written comments should notify the Designated Federal Officer, Mr. Derek Widmayer, at 301-415-7366, five days prior to the meeting, if possible, so that appropriate arrangements can be made. Electronic recordings will be permitted only during those portions of the meeting that are open to the public. Detailed procedures for the conduct of and participation in ACRS meetings were published in the Federal Register on September 26, 2007 (72 FR 54695).

Further information regarding this meeting can be obtained by contacting the Designated Federal Officer between 7:45 a.m. and 4:30 p.m. (ET). Persons planning to attend this meeting are urged to contact the above named individual at least two working days prior to the meeting to be advised of any potential changes to the agenda.

Dated: August 27, 2008.
Antonio Dias,
Chief, Reactor Safety Branch B.

[FR Doc. E8-20483 Filed 9-3-08; 8:45 am]

BILLING CODE 7590-01-P